DEPARTMENT OF ENERGY

Federal Energy Regulatory Commission

Notice of Declaration of Intention and Soliciting Comments, Motions To Intervene, and Protests

January 13, 2000.

Take notice that the following application has been filed with the Commission and is available for public inspection:

a. Application Type: Declaration of Intention.

b. Docket No.: D100-000.

c. Date Filed: December 22, 1999.

d. Applicant: City and County of San Francisco.

e. Name of Project: Calaveras Pipeline Powerhouse Project.

f. Location: At the Sunol Valley Water Treatment Plant, end of the Calaveras Pipeline, using the existing yield of the Calaveras Reservoir and the associated existing municipal water facilities. On Calaveras Creek, a tributary of Alameda Creek, Alameda and Santa Clara Counties, California (T. 5 S., R. 1 E., Mount Diablo Meridian). The project would not utilize federal or tribal lands.

g. Filed Pursuant to: Section 23(b)(1) of the Federal Power Act, 16 U.S.C. § 817(b).

h. Applicant Contact: Matthew Gass, Project Engineer, City and County of San Francisco, Public Utilities Commission, 1155 Market Street, 4th Floor, San Francisco, CA 94103, telephone (209) 989-2130.

i. FERC Contact: Any questions on this notice should be addressed to Diane M. Murray at (202) 219-2682, or E-mail address: diane.murray@ferc.fed. us.

j. Deadline for filing comments and/or motions: February 18, 2000.

All documents (original and eight copies) should be filed with: David P. Boergers, Secretary, Federal Energy Regulatory Commission, 888 First Street, NE., Washington, D.C. 20426.

Please include the docket number (DI00-1-000) on any comments or motions filed.

k. Description of Project: The site consists of: (1) a powerhouse with a total generating capacity of 1,000 kW, and (2) appurtenant facilities.

When a Declaration of Intention is filed with the Federal Energy Regulatory Commission, the Federal Power Act requires the Commission to investigate and determine if the interests of interstate or foreign commerce would be affected by the project. The Commission also determines whether or not the project: (1) would be located on a navigable waterway; (2) would occupy or affect public lands or reservations of the United States; (3) would utilize surplus water or water power from a government dam; or (4) if applicable, has involved or would involve any construction subsequent to 1935 that may have increased or would increase the project's head or generating capacity, or have otherwise significantly modified the project's pre-1935 design or operation.

l. Locations of the Application: A copy of the application is available for inspection and reproduction at the Commission's Public Reference Room located at 888 First Street, NE., Room 2A, Washington, D.C. 20426, or by calling (202) 208-1371. This filing may be viewed on http://www.ferc/fed/us/online/rims.htm (call (202) 208-2222 for assistance). A copy is also available for inspection and reproduction at the address in item h. above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, 214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the Commission's regulations to: The Secretary, Federal Energy Regulatory Commission, 888 First Street, N.E., Washington, D.C. 20426. A copy of any motion to intervene must also be served upon each representative of the Applicant specified in the particular application.

Agency Comments—Federal, State, and local agencies are invited to file comments on the described application. A copy of the application may be obtained by agencies directly from the Applicant. If any agency does file comments within the time specified for filing comments, it will be presumed to have no comments. One copy of an agency's comments must also be sent to the Applicant's representatives.

David P. Boergers,
Secretary.

[FR Doc. 00-1274 Filed 1-19-00; 8:45 am]

BILLING CODE 6717-01-M